DEPARTMENT OF THE TREASURY

United States Mint

Notification of a Refund Offer for Certain 2004 United States Mint Lewis and Clark Coin and Pouch Sets That May Contain Pouches That Are Not Authentic American Indian Products

SUMMARY: In 2004, the United States Mint prepared and marketed a product known as the “2004 United States Mint Lewis and Clark Coin and Pouch Set.” This product includes a 2004 Lewis and Clark Expedition Bicentennial Silver Dollar and a small pouch crafted by artisans from one of several American Indian tribes. The United States Mint, however, has now learned that one of the organizations whose artisans produced pouches for the product—the Shawnee Nation United Remnant Band of Ohio—is not officially recognized as an Indian tribe by state or Federal authorities. The Shawnee Nation United Remnant Band of Ohio, therefore, does not have the legal right to claim that the pouches its artisans produced are authentic American Indian products. Accordingly, the United States Mint is offering a refund to members of the public who own a 2004 United States Mint Lewis and Clark Coin and Pouch Set containing a pouch produced by the Shawnee Nation United Remnant Band of Ohio. Owners may ascertain whether their pouch set was crafted by the Shawnee Nation United Remnant Band of Ohio by referring to the Certificate of Authenticity (COA) that accompanies the set. Owners wishing to obtain a refund have two options: (1) Return the entire United States Mint Lewis and Clark Coin and Pouch Set, including the COA from the Shawnee Nation United Remnant Band of Ohio, for a refund of $130.00 (original sales price, plus $10 for shipping and insurance), or (2) return just the pouch and the COA from the Shawnee Nation United Remnant Band of Ohio for a refund of $90.00 (prorated sales price for the pouch, plus $10 for shipping and insurance).

DATES: Refunds will be made until May 1, 2008.

ADDRESSES: To receive a refund, send 2004 United States Mint Lewis and Clark Coin and Pouch Sets, or pouches, by insured mail or overnight delivery to United States Mint, ATTN: Indian Arts & Crafts Return, 801 9th Street, NW., Washington, DC 20001. In the shipping package be sure to include return address mailing information for the refund along with a note indicating that the package is to be directed to the above address.

FOR FURTHER INFORMATION CONTACT: United States Mint, Indian Arts & Crafts Return, 801 9th Street, NW., Washington, DC 20001, or call 1-888-723-2646.

SUPPLEMENTARY INFORMATION: The United States Mint sold a limited number of the 2004 United States Mint Lewis and Clark Coin and Pouch Sets between September 7, 2004, and December 31, 2004. Each set consisted of a proof Lewis and Clark Expedition Bicentennial Silver Dollar, a handcrafted American Indian Pouch, and a COA hand-signed by the American Indian artisan who crafted it, stating the artisan's tribe and its location. The United States Mint worked with the Circle of Tribal Advisors (COTA) to identify artisans from American Indian tribes to craft each unique pouch. When it was selected to produce pouches, the Shawnee Nation United Remnant Band of Ohio was a member in good standing of COTA. However, as we now have become aware, the Shawnee Nation United Remnant Band of Ohio did not meet the legal requirements to produce and market authentic “Indian” products under the Indian Arts and Crafts Act. The Shawnee Nation United Remnant Band of Ohio reportedly dropped its membership in COTA late in 2005, and COTA adjourned late in 2006 at the end of the National Lewis & Clark Bicentennial Commemoration.

Recently, the United States Mint learned that the pouches made by artisans of the Shawnee Nation United Remnant Band of Ohio do not qualify as authentic American Indian products because the Shawnee Nation United Remnant Band of Ohio is not an American Indian Tribe as defined by the Indian Arts and Crafts Act of 1990 (Pub. L. 101-644).

The Indian Arts and Crafts Act of 1990 (Act) is a truth-in-advertising law that prohibits misrepresentation in marketing of Indian arts and crafts products within the United States. It is illegal to offer or display for sale, or sell any art or craft product in a manner that falsely suggests it is Indian produced, an Indian product, or the product of a particular Indian or Indian Tribe or Indian arts and crafts organization, resident within the United States. Under the Act, an Indian is defined as a member of any Federally or state recognized Indian Tribe, or an individual certified as an Indian artisan by an Indian Tribe.

The Act broadly applies to the marketing of arts and crafts by any person in the United States. All products must be marketed truthfully regarding the Indian heritage and tribal affiliation of the producers, so as not to mislead the consumer. It is illegal to market an art or craft item using the name of a tribe if a member, or certified Indian artisan, of that tribe did not actually create the art or craft item.

Neither Federal nor state authorities recognize the Shawnee Nation United Remnant Band of Ohio as an official Indian tribe. Accordingly, the pouches produced by the artisans of the Shawnee Nation United Remnant Band of Ohio are not Indian products pursuant to the terms of the Act.

The Indian Arts and Crafts Board (IACB), an agency located in the U.S. Department of the Interior, was created by Congress to promote the economic development of American Indians and Alaska Natives through the expansion of the Indian arts and crafts market. A top priority of the IACB is the implementation and enforcement of the Indian Arts and Crafts Act of 1990. The United States Mint has been working closely with the IACB to ensure that owners of 2004 United States Mint Lewis and Clark Coin and Pouch Sets understand the law, are aware that the pouches made by the Shawnee Nation United Remnant Band of Ohio are not authentic American Indian products, and have the opportunity to obtain a refund of these products if they elect to return them.

The names of the various artisans and their tribes who crafted the pouches for the United States Mint are identified in the COA accompanying the pouch sets. Owners may ascertain whether their pouch set was crafted by the Shawnee Nation United Remnant Band of Ohio by referring to the COA.

Owners of a 2004 United States Mint Lewis and Clark Coin and Pouch Set containing a pouch produced by the Shawnee Nation United Remnant Band of Ohio may return the Set for a payment of $130.00, representing the original purchase price of $120.00, plus $10 to defray shipping, handling, and insurance charges. The owners of 2004 United States Mint Lewis and Clark Coin and Pouch Sets containing Shawnee Nation United Remnant Band of Ohio pouches who desire to keep the Lewis and Clark Expedition Bicentennial Silver Dollar may return the pouches, along with the COA, for a prorated refund of $90.00, representing the prorated price of the pouch plus $10 to defray shipping, handling, and insurance charges.

Authority: 31 U.S.C. 5112; Pub. L. 106-126, Title III, 113 Stat. 1647; Pub. L. 109-232, 120 Stat. 395.

Dated: October 26, 2007.
Edmund C. Moy,
Director, United States Mint.

[FR Doc. E7-21463 Filed 10-30-07; 8:45 am]

BILLING CODE 4810-02-P